DEPARTMENT OF ENERGY

Federal Energy Regulatory Commission

[Docket Nos. CP03-302-000, CP03-303-000 and CP03-304-000]

Cheyenne Plains Gas Pipeline Company; Notice of Technical Conference

July 30, 2003.

On August 27, 2003, the staff of the Federal Energy Regulatory Commission will hold a technical conference concerning issues raised by the parties related to the pro forma tariff filed by Cheyenne Plains Gas Pipeline Company (Cheyenne Plains) in the above referenced dockets.

The conference will be held at 10 a.m. in Room 3M-2B at the Commission's offices at 888 First Street NE., Washington, DC, 20426.

Any parties to this proceeding who have questions about, or plan to attend the technical conference should contact either John Wood at (202) 502-8113 or Pamela Romano at (202) 502-6854.

Magalie R. Salas,
Secretary.

[FR Doc. 03-19958 Filed 8-5-03; 8:45 am]

BILLING CODE 6717-01-P